DEPARTMENT OF LABOR

Employment and Training Administration

[TA-W-57,215]

Plastic Dress-Up Company, South El Monte, CA; Notice of Termination of Investigation

Pursuant to Section 221 of the Trade Act of 1974, as amended, an investigation was initiated on May 19, 2005 in response to a petition filed by a company official on behalf of workers at Plastic Dress-Up Company, South El Monte, California.

The petitioner has requested that the petition be withdrawn. Consequently, the investigation has been terminated.

Signed at Washington, DC, this 6th day of June, 2005.
Linda G. Poole,
Certifying Officer, Division of Trade Adjustment Assistance.

[FR Doc. E5-3233 Filed 6-21-05; 8:45 am]

BILLING CODE 4510-30-P